NUCLEAR REGULATORY COMMISSION

[Docket No. 50-213]

Connecticut Yankee Atomic Power Company, et al., Haddam Neck Plant; Notice of Public Meeting To Discuss the Haddam Neck License Termination Plan

The Nuclear Regulatory Commission (NRC) is in receipt of and has made available for public inspection and comment the License Termination Plan (LTP) for the Haddam Neck Plant (HNP) located in Haddam, Connecticut. NRC's receipt of the HNP LTP and the LTP's availability for comment was noticed in the Federal Register on August 23, 2000 (65 FR 51345). The subject of this notice is to announce that NRC staff will conduct a public meeting to discuss the HNP LTP on Tuesday, October 17, 2000, at 7:00 p.m. at Haddam—Killingworth High School, Higganum, Connecticut.

Connecticut Yankee Atomic Power Company (CYAPC, or the licensee) announced permanent cessation of power operations of HNP on December 5, 1996. In accordance with NRC regulations, CYAPC submitted a Post-Shutdown Decommissioning Activities Report (PSDAR) for HNP to the NRC on August 22, 1997. The facility is undergoing active decontamination and dismantlement.

In accordance with 10 CFR 50.82(a)(9), all power reactor licensees must submit an application for termination of their license. The application for termination of license must be accompanied or preceded by an LTP to be submitted for NRC approval. If found acceptable by the NRC staff, the LTP is approved by license amendment, subject to such conditions and limitations as the NRC staff deems appropriate and necessary. CYAPC submitted the proposed LTP for HNP by application dated July 7, 2000. In accordance with 10 CFR 20.1405 and 10 CFR 50.82(a)(9)(iii), the NRC provided notice to individuals in the vicinity of the site that the NRC was in receipt of the HNP LTP and would accept comments from affected parties (65 FR 51345). In accordance with 10 CFR 50.82(a)(9)(iii), the NRC is hereby providing notice that NRC staff will conduct a meeting to discuss the HNP LTP.

The HNP LTP (ADAMS Accession Number ML003735143) may be examined, and/or copied for a fee, at the NRC's Public Document Room, located at One White Flint North, 11555 Rockville Pike (first floor), Rockville, Maryland, and is accessible electronically from the ADAMS Public Library component on the NRC Web site, http://www.nrc.gov (the Public Electronic Reading Room). The LTP may also be viewed at the CYAPC Web site at www.connyankee.com.

For further information, contact: Mr. Louis L. Wheeler by mail, Mail Stop O-7-C2, Project Directorate IV & Decommissioning, Division of Licensing Project Management, Office of Nuclear Reactor Regulation, U.S. Nuclear Regulatory Commission, Washington, D.C. 20555-0001; telephone 301-415-1444; or e-mail dxw@nrc.gov.

Dated at Rockville, Maryland, this 28th day of September 2000.
For the Nuclear Regulatory Commission.
Michael T. Masnik,
Chief, Decommissioning Section, Project Directorate IV and Decommissioning, Division of Licensing Project Management, Office of Nuclear Reactor Regulation.

[FR Doc. 00-25462 Filed 10-3-00; 8:45 am]

BILLING CODE 7590-01-P